INTERNATIONAL TRADE COMMISSION

Certain Safety Eyewear and Components Thereof; Notice of Commission Decision Not To Review an Initial Determination Amending the Complaint and Notice of Investigation and Finding the Economic Prong of the Domestic Industry Requirement Satisfied

[Inv. No. 337-TA-433]

AGENCY: U.S. International Trade Commission.

ACTION: Notice.

SUMMARY: Notice is hereby given that the U.S. International Trade Commission has decided not to review the presiding administrative law judge's (“ALJ's”) initial determination (“ID”) granting a motion to amend the complaint and notice of investigation to reflect the U.S. Patent and Trademark Office's issuance of U.S. Letters Patent Re. 36,762 as a reissue U.S. Letters Patent 5,457,505 and a motion granting summary determination that the economic prong of the domestic industry section 337 is satisfied.

SUPPLEMENTARY INFORMATION: The Commission instituted this investigation on May 1, 2000, based on a complaint filed by Bacou USA Safety, Inc. and Uvex Safety Manufacturing, Inc. (“complainants”), both of Smithfield, Rhode Island. The complaint named one respondent, Crews, Inc. of Memphis, Tennessee.

Complainants alleged that respondent had violated section 337 of the Tariff Act of 1930 by importing into the United States, selling for importation, and/or selling within the United States after importation certain safety eyewear and components thereof by reason of (a) infringement of claims 1-5, 8-14, and 16-18 of U.S. Letters Patent 5,457,505 (the ‘505 patent); (b) the claim of U.S. Letters Patent Des. 322,616; and (c) misappropriation of trade dress, the threat or effect of which is to destroy or substantially injure an industry in the United States.

On July 27, 2000, complainants moved for summary determination on the economic prong of the domestic industry requirements of section 337 as to the ’505 patent. On August 4, 2000, complainants moved to amend the complaint and notice of investigation to reflect the U.S. Patent and Trademark Office's issuance of U.S. Letters Patent Re. 36,762 as a reissue of the ‘505 patent. Both respondent Crews and the Commission investigative attorney (“IA”) responded to the motion of summary determination motion on August 7, 2000. The IA filed a response to the motion to amend on August 14, 2000, and Crews filed its response to the motion to amend on August 16, 2000.

On May 18, 2000, the presiding ALJ issued an ID (Order No. 21) granting complainants' motions. No party petitioned for review of the ID.

The authority for the Commission's determination is contained in section 337 of the Tariff Act of 1930, as amended (19 U.S.C. 1337), and in section 210.42 of the Commission's Rules of Practice and Procedure (19 CFR 210.42). Copies of the ALJ's ID and all other nonconfidential documents filed in connection with this investigation are or will be available for inspection during official business hours (8:45 a.m. to 5:15 p.m.) in the Office of the Secretary, U.S. International Trade Commission, 500 E Street, SW., Washington, D.C. 20436, telephone 202-205-2000.

Issued: September 21, 2000.
By order of the Commission.
Donna R. Koehnke,
Secretary.

[FR Doc. 00-24813 Filed 9-26-00; 8:45 am]

BILLING CODE 7020-02-P